DEPARTMENT OF TRANSPORTATION

Federal Aviation Administration

14 CFR Part 71

[Docket No. FAA-2003-16534; Airspace Docket No. 03-ASO-19]

Establishment of Class D and E Airspace; Olive Branch, MS and Amendment of Class E Airspace; Memphis, TN

AGENCY: Federal Aviation Administration (FAA), DOT.

ACTION: Final rule.

SUMMARY: This action establishes Class D and E4 airspace at Olive Branch, MS. A federal contract tower with a weather reporting system has been constructed at the Olive Branch Airport. Therefore, the airport meets criteria for Class D and E4 airspace. Class D surface area airspace and Class E4 airspace designated as an extension to Class D airspace is required when the control tower is open to contain Standard Instrument Approach Procedures (SIAPs) and other Instrument Flight Rules (IFR) operations at the airport. This action establishes Class D airspace extending upward from the surface to but not including 2,900 feet MSL, within a 4-mile radius of the Olive Branch Airport and Class E4 airspace extensions that are 5 miles wide and extend 7 miles northeast and south of the airport. This action also amends the Class E5 airspace area for Memphis, TN, which includes the Olive Branch Airport, to contain the Nondirectional Radio Beacon (NDB) or Global Positioning System (GPS) Runway (RWY) 18 and RWY 36 SIAPs. Controlled airspace extending upward from 700 feet Above Ground Level (AGL) is needed to contain the procedure turn airspace area.

EFFECTIVE DATE: 0901 UTC, April 15, 2004.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

On December 9, 2003, the FAA proposed to amend part 71 of the Federal Aviation Regulations (14 CFR part 71) by establishing Class D and E4 airspace at Olive Branch, MS, and amending Class E5 airspace at Memphis, TN (68 FR 68573). This action provides adequate Class D and E4 airspace for IFR operations at Olive Branch Airport and adequate Class E5 airspace at Memphis, TN to contain SIAPs. Class D airspace designations for airspace areas extending upward from the surface of the earth, Class E4 airspace areas designated as an extension to a Class D surface area, and Class E5 airspace designations for airspace extending upward from 700 feet or more above the surface of the earth are published in Paragraphs 5000, 6004, and 6005 respectively, of FAA Order 7400.9L, dated September 2, 2003, and effective September 16, 2003, which is incorporated by reference in 14 CFR 71.1. The Class D, E4, and E5 designations listed in this document will be published subsequently in the Order.

Interested parties were invited to participate in this rulemaking proceeding by submitting written comments on the proposal to the FAA. No comments objecting to the proposal were received.

The Rule

This amendment to part 71 of the Federal Aviation Regulations (14 CFR part 71) establishes Class D and E4 airspace at Olive Branch, MS, and amends Class E5 at Memphis, TN.

The FAA has determined that this proposed regulation only involves an established body of technical regulations for which frequent and routine amendments are necessary to keep them operationally current. It, therefore, (1) Is not a “significant regulatory action” under Executive Order 12866; (2) is not a “significant rule” under DOT Regulatory Policies and Procedures (44 FR 11034; February 26, 1979); and (3) so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9L, Airspace Designations and Reporting Points, dated September 2, 2003, and effective September 16, 2003, is amended as follows:

Paragraph 5000 Class D Airspace

* * * * *

ASO MS D Olive Branch, MS [NEW]

Olive Branch Airport, MS

(Lat. 34°58′44″ N, long. 89°47′13″ W)

That airspace extending upward from the surface to and including 2,900 feet MSL within a 4-mile radius of Olive Branch Airport; excluding that airspace within the Memphis Class B airspace area. This Class D airspace area is effective during the specific days and times established in advance by a Notice to Airmen. The effective days and times will thereafter be continuously published in the Airport/Facility Directory.

* * * * *

Paragraph 6004 Class E4 Airspace Areas Designated as an Extension to a Class D Airspace Area

* * * * *

ASO MS E4 Olive Branch, MS [NEW]

Olive Branch Airport, MS

(Lat. 34°58′44″ N, long. 89°47′13″ W)

Olive Branch NDB

(Lat. 34°58′47″ N, long. 89°47′20″ W)

That airspace extending upward from the surface within 2.5 miles each side of the Olive Branch NDB 017° and 170° bearings, extending from the 4-mile radius to 7 miles northeast and south of the NDB. This Class E4 airspace area is effective during the specific days and times established in advance by a Notice to Airmen. The effective days and times will thereafter be continuously published in the Airport/Facility Directory.

* * * * *

Paragraph 6005 Class E Airspace Areas Extending Upward from 700 feet or More Above the Surface of the Earth

* * * * *

ASO TN E5 Memphis, TN [REVISED]

Memphis International Airport, TN

Lat. 35°02′33″ N, long. 89°58′36″ W

Olive Branch Airport

Lat. 34°58′44″ N, long. 89°47′13″ W

West Memphis Municipal Airport

Lat. 35°08′06″ N, long. 90°14′04″ W

General DeWitt Spain Airport

Lat. 35°12′02″ N, long. 90°03′14″ W

Elvis NDB

Lat. 35°03′41″ N, long. 90°04′18″ W

West Memphis NDB

Lat. 35°08′22″ N, long. 90°13′57″ W

That airspace extending upward from 700 feet above the surface within an 8-mile radius of Memphis International Airport, and within 4 miles north and 8 miles south of the 271° bearing from the Elvis NDB extending from the 8-mile radius to 16 miles west of the Elvis NDB, and within a 7.5-mile radius of Olive Branch Airport, and within 4 miles west and 8 miles east of the 017° bearing and 4 miles west and 8 miles east of the 170° bearing from the Olive Branch NDB extending from the 7.5-mile radius to 16 miles northeast and south of the airport, and within a 6.5-mile radius of West Memphis Municipal Airport, and within 4 miles east and 8 west of the 197° from the West Memphis NDB extending from the 6.5-mile radius to 16 miles south of the West Memphis NDB, and within 4 miles east and 8 miles west of the 353° bearing from the West Memphis NDB extending from the 6.5-mile radius to 16 miles north of the West Memphis NDB, and within a 6.4-mile radius of General DeWitt Spain Airport; excluding that airspace within the Millington, TN, Class E airspace area.

* * * * *

Issued in College Park, Georgia, on January 21, 2004.
Jeffrey U. Vincent,
Acting Manager, Air Traffic Division, Southern Region.

,

[FR Doc. 04-2191 Filed 2-2-04; 8:45 am]

BILLING CODE 4910-13-M